DEPARTMENT OF COMMERCE

International Trade Administration

[A-301-803]

Citric Acid and Certain Citrate Salts From Colombia: Final Results of Antidumping Duty Administrative Review; 2020-2021

AGENCY: Enforcement and Compliance, International Trade Administration, Department of Commerce.

SUMMARY: The U.S. Department of Commerce (Commerce) determines that citric acid and certain citrate salts (citric acid) from Colombia was sold in the United States at prices below normal value during the period of review (POR) July 1, 2020, through June 30, 2021.

DATES: Applicable November 10, 2022.

FOR FURTHER INFORMATION CONTACT: David Lindgren, AD/CVD Operations, Office III, Enforcement and Compliance, International Trade Administration, U.S. Department of Commerce, 1401 Constitution Ave. NW, Washington, DC 20230; telephone: (202) 482-1671.

SUPPLEMENTARY INFORMATION:

Background

On July 22, 2022, Commerce published the Preliminary Results.¹ Subsequently, on August 22, 2022, we received one case brief from Archer Daniels Midland Company, Cargill, Incorporated, and Tate & Lyle Ingredients Americas LLC (collectively, the petitioners).² No additional comments were submitted. This review covers one producer/exporter of the subject merchandise, Sucroal S.A. (Sucroal). Commerce conducted this review in accordance with section 751(a)(1)(B) of the Tariff Act of 1930, as amended (the Act).

¹ See Citric Acid and Certain Citrate Salts from Colombia: Preliminary Results of Antidumping Duty Administrative Review; 2020-2021, 87 FR 43786 (July 22, 2022) (Preliminary Results).

² See Petitioners' Letter, “Petitioners' Case Brief,” dated August 22, 2022.

Scope of the Order ³

³ See Citric Acid and Certain Citrate Sales from Belgium, Colombia and Thailand: Antidumping Duty Orders, 83 FR 35214 (July 25, 2018) (Order).

The product covered by the Order is citric acid from Colombia. For a complete description of the scope, see the Issues and Decision Memorandum.⁴

⁴ See Memorandum, “Citric Acid and Certain Citrate Salts from Colombia: Issues and Decision Memorandum for the Final Results of Antidumping Duty Administrative Review; 2020-2021,” dated concurrently with, and hereby adopted by, this notice (Issues and Decision Memorandum).

Analysis of Comments Received

All issues raised in the case brief are addressed in the Issues and Decision Memorandum. The issue that the petitioners raised and to which we responded in the Issues and Decision Memorandum is attached at the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, and for the reasons explained in the Issues and Decision Memorandum, we made one change to the preliminary weighted-average dumping margin calculations for Sucroal.⁵

⁵ See Issues and Decision Memorandum at 3.

Final Results of the Administrative Review

Commerce determines that the following weighted-average dumping margin exists for the period July 1, 2020, through June 30, 2021:

Producer/exporter | Estimated weighted- average dumping margin (percent)
Sucroal S.A | 3.58

Disclosure

Commerce intends to disclose the calculations performed in connection with these final results of review to interested parties within five days of any public announcement or, if there is no public announcement, within five days of the date of publication of the notice of final results in the Federal Register, in accordance with 19 CFR 351.224(b).

Assessment Rates

Pursuant to section 751(a)(2)(C) of the Act, and 19 CFR 351.212(b)(1), Commerce has determined, and U.S. Customs and Border Protection (CBP) shall assess, antidumping duties (AD) on all appropriate entries of subject merchandise in accordance with the final results of this review. For Sucroal, because its weighted-average dumping margin is not zero or de minimis (i.e., less than 0.5 percent), Commerce has calculated importer-specific AD assessment rates. We calculated importer- (or customer-) specific ad valorem AD assessment rates by dividing the total amount of dumping calculated for the importer's examined sales by the total entered value of the same sales for that importer, in accordance with 19 CFR 351.212(b)(1).

Commerce intends to issue assessment instructions to CBP no earlier than 35 days after the date of publication of the final results of this review in the Federal Register, in accordance with 19 CFR 356.8(a). If a timely summons is filed at the U.S. Court of International Trade, the assessment instructions will direct CBP not to liquidate relevant entries until the time for parties to file a request for a statutory injunction has expired (i.e., within 90 days of publication).

Cash Deposit Requirements

The following deposit requirements will be effective upon publication of the notice of these final results for all shipments of citric acid from Colombia entered, or withdrawn from warehouse, for consumption on or after the date of publication provided by section 751(a)(2)(C) of the Act: (1) the cash deposit rate for Sucroal will be equal to the dumping margin established in the final results of this review; (2) for merchandise exported by producers or exporters not covered in this review but covered in a completed prior segment of the proceeding, the cash deposit rate will continue to be the company-specific rate published for the most recently-completed segment of this proceeding in which the producer and/or exporter participated; (3) if the exporter is not a firm covered in this review, a prior review, or the original less-than-fair-value investigation but the producer is, then the cash deposit rate will be the rate established for the most recently completed segment of the proceeding for the producer of the merchandise; and (4) the cash deposit rate for all other producers or exporters will continue to be 28.48 percent, the all-others rate established in the less-than-fair-value investigation.⁶ These cash deposit requirements, when imposed, shall remain in effect until further notice.

⁶ See Order.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing these results in accordance with sections 751(a)(1) and 777(i) of the Act and 19 CFR 351.221(b)(5).

Dated: November 4, 2022.
Lisa W. Wang,
Assistant Secretary for Enforcement and Compliance.

Appendix—List of Topics Discussed in the Issues and Decision Memorandum

I. Summary

II. Background

III. Scope of the Order

IV. Discussion of the Issue

Comment: Whether to Correct an Error in the Comparison Market Program

V. Recommendation

[FR Doc. 2022-24606 Filed 11-9-22; 8:45 am]

BILLING CODE 3510-DS-P